COMMISSION ON CIVIL RIGHTS

Notice of Public Meeting of the Tennessee Advisory Committee

AGENCY: U.S. Commission on Civil Rights.

ACTION: Notice of meeting.

SUMMARY: Notice is hereby given, pursuant to the provisions of the rules and regulations of the U.S. Commission on Civil Rights (Commission) and the Federal Advisory Committee Act that the Tennessee Advisory Committee will hold a meeting on Monday, July 24, 2017, for hearing testimony regarding the issue of Civil Asset Forfeiture in Tennessee.

DATES: The meeting will be held on Monday, July 24, 2017 09:30 a.m.

ADDRESSES: Nashville Public Library (NPL), 615 Church Street, Nashville, Tennessee 37219.

FOR ADDITIONAL INFORMATION CONTACT: Jeff Hinton, DFO, at jhinton@usccr.gov or (404) 562-7006

SUPPLEMENTARY INFORMATION: This meeting is open to the public, and will take place at the Nashville Public Library (NPL), 615 Church Street, Nashville, Tennessee 37219. In addition, members of the public may submit written comments; the comments must be received in the regional office within 30 days following the meeting. Written comments may be mailed to the Southern Regional Office, U.S. Commission on Civil Rights, 61 Forsyth St., Suite 16T126, Atlanta, Georgia 30303. They may also be faxed to the Commission at (404) 562-7005, or emailed to Jeff Hinton at jhinton@usccr.gov. Persons who desire additional information may contact the USCCR, Southern Regional Office at (404) 562-7000.

Records generated from this meeting may be inspected and reproduced at the Southern Regional Office, as they become available, both before and after the meeting. Records of the meeting will be available via www.facadatabase.gov under the Commission on Civil Rights, Tennessee Advisory Committee link. Persons interested in the work of this Committee are directed to the Commission's Web site, http://www.usccr.gov, or may contact the Southern Regional Office at the above email or street address.

AGENDA

9:30 a.m. Introductions

9:45-10:55 a.m. Panel 1 Law Enforcement Officials

11:00-12:05 a.m. Panel 2 Legislative panel

12:10-1:15 p.m. Panel 3 National/State Organizations

1:15 p.m.-2:00 p.m. Lunch Break

2:00-3:05 p.m. Panel 4 Tennessee Practitioners and Academics

3:10-4:05 p.m. Panel 5 Advocacy Organizations

4:10-4:30 p.m. Public Comment and Community Testimonials

4:30 p.m. Adjourn

Dated: June 29, 2017.
David Mussatt,
Supervisory Chief, Regional Programs Unit.

[FR Doc. 2017-14093 Filed 7-5-17; 8:45 am]

BILLING CODE P